DEPARTMENT OF THE TREASURY

Fiscal Service

Financial Management Service; Proposed Collection of Information: Final Rule—Administrative Offset, Collection of Past-Due Child Support

AGENCY: Financial Management Service, Fiscal Service, Treasury.

ACTION: Notice and request for comments.

SUMMARY: The Financial Management Service, as part of its continuing effort to reduce paperwork and respondent burden, invites the general public and other Federal agencies to take this opportunity to comment on a continuing information collection. By this notice, the Financial Management Service solicits comments concerning the “Final Rule—Administrative Offset, Collection of Past-Due Child Support”.

DATES: Written comments should be received on or before June 12, 2000.

ADDRESSES: Direct all written comments to Financial Management Service, 3700 East West Highway, Programs Branch, Room 144, Hyattsville, Maryland 20782.

FOR FURTHER INFORMATION CONTACT: Requests for additional information should be directed to Mary MacLeod, Manager, Customer Liaison Branch, Room 439F, 401—14th Street, SW, Washington, DC 20227, (202) 874-7451.

SUPPLEMENTARY INFORMATION: Pursuant to the Paperwork Reduction Act of 1995, (44 U.S.C. 3506(c)(2)(A)), the Financial Management Service solicits comments on the collection of information described below.

Title: Final Rule—Administrative Offset, Collection of Past-Due Child Support.

OMB Number: 1510-0069.

Form Number: N/A.

Abstract: The Debt Collection Improvement Act of 1996 authorizes the collection of past-due child support by offset of nontax Federal payments. Executive Order 13019 of September 28, 1996, requires Treasury to promptly develop and implement procedures necessary to implement this authority.

Current Actions: Extension of currently approved collection.

Type of Review: Regular.

Affected Public: State, Local or Tribal Government.

Estimated Number of Respondents: 54.

Estimated Time Per Respondent: 103 hours.

Estimated Total Annual Burden Hours: 5,562.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: April 4, 2000.
Nancy C. Fleetwood,
Assistant Commissioner, Debt Management Services.

[FR Doc. 00-8860 Filed 4-10-00; 8:45 am]

BILLING CODE 4810-35-M